DEPARTMENT OF COMMERCE

National Oceanic and Atmospheric Administration

RIN 0648-XA614

Fisheries of the Exclusive Economic Zone Off Alaska; Bering Sea and Aleutian Islands Crab Rationalization Program; Public Meeting

AGENCY: National Marine Fisheries Service (NMFS), National Oceanic and Atmospheric Administration (NOAA), Commerce.

ACTION: Notice of peer review meeting.

SUMMARY: NMFS has requested the Center for Independent Experts (CIE) to conduct a peer review of the agency's economic data collection program for the Bering Sea/Aleutian Islands crab fisheries managed under the BSAI Crab Rationalization program. The CIE, operated by Northern Taiga Ventures, Inc., provides independent peer reviews of NMFS's fisheries stock assessments and other science products. The BSAI Crab Economic Data Report (EDR) program administered by NMFS began collecting cost, earnings and employment data in 2005, concurrently with the transition of BSAI crab fisheries to the rationalized management regime. The program was developed under the direction of the North Pacific Fishery Management Council (Council). The CIE review will examine the scientific methods and practices employed by NMFS in the design and administration of the EDR program and dissemination of results, assess whether the data and information produced represent the best available science, and provide recommendations for methodological improvements to achieve best scientific practices in economic data collection and analysis of BSAI crab fisheries. The public is invited to attend and observe the presentations and discussions between the CIE panel and the NMFS scientists and contractors who have administered the data collection.

DATES: The public portion of the meeting will be held August 23-24, 2011, 9 a.m. to 4:30 p.m. Pacific standard time.

ADDRESSES: The meeting will be held in the Observer Training Room, Building 4 of the National Marine Fisheries Service, Alaska Fisheries Science Center, 7600 Sand Point Way, NE., Seattle, WA 98115.

FOR FURTHER INFORMATION CONTACT: Brian Garber-Yonts, 206-526-7143 or brian.garber-yonts@noaa.gov.

SUPPLEMENTARY INFORMATION: For further information about this meeting and the CIE Review of the BSAI crab EDR program, please visit the Alaska Fisheries Science Center Web site at http://www.afsc.noaa.gov/. For further information on the Crab Rationalization Program, please visit the NMFS Alaska Region Web site at http://www.alaskafisheries.noaa.gov.

Special Accommodations

This meeting is physically accessible to people with disabilities. Requests for special accommodations should be directed to Brian Garber-Yonts (see FOR FURTHER INFORMATION CONTACT) at least 5 working days before the workshop date.

Dated: August 1, 2011.
Margo Schulze-Haugen,
Acting Director, Office of Sustainable Fisheries, National Marine Fisheries Service.

[FR Doc. 2011-19811 Filed 8-3-11; 8:45 am]

BILLING CODE 3510-22-P